NATIONAL AERONAUTICS AND SPACE ADMINISTRATION

[Notice 05-056]

Notice of Prospective Patent License

AGENCY: National Aeronautics and Space Administration.

ACTION: Notice of prospective patent license.

SUMMARY: NASA hereby gives notice that the Modine Manufacturing Company of Racine, Wisconsin, has applied for a partially exclusive license to practice the NASA inventions disclosed in (1) Patent No. U.S. 6,399,020 B1, entitled Aluminum-Silicon Alloy Having Improved Properties at Elevated Temperatures and Articles Cast Therefrom; (2) Patent No. U.S. 6,419,769 B1, entitled Aluminum-Silicon Alloy Having Improved Properties at Elevated Temperatures and Process for Producing Cast Articles Therefrom; and (3) PCT International Application No. PCT/US03/10372 entitled, High Strength Aluminum Alloy for High Temperature Application filed April 3, 2003, for European Patent Organizations (EPO), Australia, Brazil, Canada, Japan, Columbia, India, Indonesia, Mexico, Philippines, and Vietnam. All three inventions are assigned to the United States of America as represented by the Administrator of the National Aeronautics and Space Administration. Written objections to the prospective grant of a license should be sent to Mr. Jerry L. Seemann, Chief Patent Counsel/LS01, Marshall Space Flight Center, Huntsville, AL 35812. NASA has not yet made a determination to grant the requested license and may deny the requested license even if no objections are submitted within the comment period.

DATE(S): Responses to this notice must be received by May 23, 2005.

FOR FURTHER INFORMATION CONTACT: Sammy A. Nabors, Technology Transfer Department/ED02, Marshall Space Flight Center, Huntsville, AL 35812, (256) 544-5226.

Dated: March 15, 2005.
Keith T. Sefton,
Deputy General Counsel, Administration and Management.

[FR Doc. 05-5711 Filed 3-22-05; 8:45 am]

BILLING CODE 7510-13-P